DEPARTMENT OF THE INTERIOR

National Park Service

[NPS-WASO-NRNHL-0511-7546; 2280-665]

National Register of Historic Places; Notification of Pending Nominations and Related Actions

Nominations for the following properties being considered for listing or related actions in the National Register were received by the National Park Service before May 21, 2011. Pursuant to § 60.13 of 36 CFR Part 60, written comments are being accepted concerning the significance of the nominated properties under the National Register criteria for evaluation. Comments may be forwarded by United States Postal Service, to the National Register of Historic Places, National Park Service, 1849 C St., NW., MS 2280, Washington, DC 20240; by all other carriers, National Register of Historic Places, National Park Service,1201 Eye St., NW., 8th floor, Washington DC 20005; or by fax, 202-371-6447. Written or faxed comments should be submitted by June 27, 2011. Before including your address, phone number, e-mail address, or other personal identifying information in your comment, you should be aware that your entire comment—including your personal identifying information—may be made publicly available at any time. While you can ask us in your comment to withhold your personal identifying information from public review, we cannot guarantee that we will be able to do so.

J. Paul Loether,
Chief, National Register of Historic Places/National Historic Landmarks Program.

ALABAMA

Madison County

Dallas Mill Village Historic District, Dickson St. NE. to Russell St. NE., Rison Ave. NE. to Pratt Ave. NE., Huntsville, 11000406

Mobile County

Davis Avenue Recreation Center, 1361 Dr. Martin Luther King, Jr. Ave., Mobile, 11000407

International Longshoreman's Association Hall, 505 Dr. Martin Luther King, Jr. Ave., Mobile, 11000408

KANSAS

Butler County

Yingling Brothers Auto Company, (Roadside Kansas MPS) 411 S. Main St., El Dorado, 11000409

Sedgwick County

Butts, J. Arch, Packard Building, (Roadside Kansas MPS) 1525 E. Douglas Ave., Wichita, 11000410

Shawnee County

Hughes Conoco Service Station, (Roadside Kansas MPS) 400 SW. Taylor St., Topeka, 11000411

NEW JERSEY

Passaic County

Hinchliffe Stadium, Maple and Liberty Sts., Paterson, 11000412

NORTH DAKOTA

Williams County

Williston High School, 612 1st Ave. W., Williston, 11000413

PUERTO RICO

San Juan Municipality

Casa Dra. Concha Melendez Ramirez, 1400 Vila Mayo, San Juan, 11000414

SOUTH CAROLINA

Greenville County

Fountain Inn Principal's House and Teacherage, 105 Mt. Zion Dr., Fountain Inn, 11000415

WISCONSIN

Milwaukee County

Oak Creek Parkway, (Milwaukee County Parkway System) Between Grant Park at Hawthorne Ave. & Rawson Ave., South Milwaukee, 11000416

[FR Doc. 2011-14373 Filed 6-9-11; 8:45 am]

BILLING CODE 4312-51-P